DEPARTMENT OF HEALTH AND HUMAN SERVICES

National Institutes of Health

National Heart, Lung, and Blood Institute; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications or contract proposals discussions could disclose confidential trade secrets or commercial property such as patentable material, and personal information concerning individuals associated with the grant applications, the disclosure of which would constitute a clearly unwarranted invasion of personal privacy.

Name of Committee: National Heart, Lung, and Blood Institute Special Emphasis Panel; K99/R00 MOSAIC-Maximizing Opportunities for Scientific and Academic Independent Careers.

Date: July 8, 2024.

Time: 1:00 p.m. to 5:00 p.m.

Agenda: To review and evaluate grant applications.

Place: National Institutes of Health Rockledge I 6705 Rockledge Drive Bethesda, MD 20892 (Virtual Meeting).

Contact Person: Nawazish Ali Naqvi, Ph.D., Scientific Review Officer, Office of Scientific Review/DERA, National Heart, Lung and Blood Institute, National Institutes of Health, 6705 Rockledge Drive, Room 208-Y, Bethesda, MD 20892, (301) 827-7911, nawazish.naqvi@nih.gov.

Name of Committee: National Heart, Lung, and Blood Institute Special Emphasis Panel; Multi-Ethnic Study in Atherosclerosis (MESA).

Date: July 11, 2024.

Time: 11:00 a.m. to 3:00 p.m.

Agenda: To review and evaluate contract proposals.

Place: National Institutes of Health, Rockledge I, 6705 Rockledge Drive, Bethesda, MD 20892 (Virtual Meeting).

Contact Person: Sun Saret, Ph.D., Scientific Review Officer, Office of Scientific Review/DERA, National Heart, Lung, and Blood Institute, National Institutes of Health, 6705 Rockledge Drive, Room 208-S Bethesda, MD 20892, (301) 435-0270 sun.saret@nih.gov.

Name of Committee: National Heart, Lung, and Blood Institute Special Emphasis Panel; Short Term Training Program.

Date: July 15, 2024.

Time: 1:00 p.m. to 4:00 p.m.

Agenda: To review and evaluate grant applications.

Place: National Institutes of Health, Rockledge I, 6705 Rockledge Drive, Bethesda, MD 20892 (Virtual Meeting).

Contact Person: Michael P. Reilly, Ph.D. Scientific Review Officer, Office of Scientific Review/DERA, National Heart, Lung, and Blood Institute, National Institutes of Health, 6705 Rockledge Drive, Room 208-Z Bethesda, MD 20892, (301) 827-7975 reillymp@nhlbi.nih.gov.

Name of Committee: National Heart, Lung, and Blood Institute Special Emphasis Panel; Physician Scientist Transition to Independence in Blood Science Research (R00—Clinical Trial Optional).

Date: July 17, 2024.

Time: 1:00 p.m. to 5:00 p.m.

Agenda: To review and evaluate grant applications.

Place: National Institutes of Health, Rockledge I, 6705 Rockledge Drive, Bethesda, MD 20892 (Virtual Meeting).

Contact Person: Nawazish Ali Naqvi, Ph.D., Scientific Review Officer, Office of Scientific Review/DERA, National Heart, Lung and Blood Institute, National Institutes of Health, 6705 Rockledge Drive, Room 208-Y Bethesda, MD 20892, (301) 827-7911 nawazish.naqvi@nih.gov.

Name of Committee: National Heart, Lung, and Blood Institute Special Emphasis Panel; Catalyze Product Definition for Small Molecules and Biologics.

Date: July 18, 2024.

Time: 10:00 a.m. to 3:30 p.m.

Agenda: To review and evaluate grant applications.

Place: National Institutes of Health, Rockledge I, 6705 Rockledge Drive, Bethesda, MD 20892 (Virtual Meeting).

Contact Person: Rajiv Kumar, Ph.D., Branch Chief, Blood and Vascular Branch Office of Scientific Review/DERA, National Heart, Lung, and Blood Institute, National Institutes of Health, 6705 Rockledge Drive, 208-W Bethesda, MD 20892, 301-827-4612 rajiv.kumar@nih.gov.

Name of Committee: National Heart, Lung, and Blood Institute Special Emphasis Panel; R35 OIA Review.

Date: July 24-25, 2024.

Time: 9:00 a.m. to 4:00 p.m.

Agenda: To review and evaluate grant applications.

Place: Hilton Garden Inn Bethesda, 7301 Waverly Street, Bethesda, MD 20814 (Hybrid Meeting).

Contact Person: Kristen Page, Ph.D., Scientific Review Officer, Office of Scientific Review/DERA, National Heart, Lung, and Blood Institute, National Institutes of Health, 6705 Rockledge Drive, Suite 209-B Bethesda, MD 20892, (301) 827-7953 kristen.page@nih.gov.

(Catalogue of Federal Domestic Assistance Program Nos. 93.233, National Center for Sleep Disorders Research; 93.837, Heart and Vascular Diseases Research; 93.838, Lung Diseases Research; 93.839, Blood Diseases and Resources Research, National Institutes of Health, HHS)

Dated: May 30, 2024.
David W. Freeman,
Supervisory Program Analyst, Office of Federal Advisory Committee Policy.

[FR Doc. 2024-12265 Filed 6-4-24; 8:45 am]

BILLING CODE 4140-01-P